FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 28, 2018.

A. Federal Reserve Bank of Philadelphia (William Spaniel, Senior Vice President) 100 North 6th Street, Philadelphia, Pennsylvania 19105-1521. Comments can also be sent electronically to Comments.applications@phil.frb.org:

1. Roger L. Dirlam, Honesdale, Pennsylvania, Honesdale, Pennsylvania, the Honat Employee Stock Ownership Plan, Honesdale, Pennsylvania, and Charles Curtin, Clarks Summit, Pennsylvania, Katherine Bryant, Honesdale, Pennsylvania, and Luke Woodmansee, Starlight, Pennsylvania, as trustees of the ESOP; to each retain more than 10 percent of the voting shares of Honat Bancorp, Inc., Honesdale, Pennsylvania, and thereby retain shares of The Honesdale National Bank, Honesdale, Pennsylvania.

B. Federal Reserve Bank of Kansas City (Dennis Denney, Assistant Vice President) 1 Memorial Drive, Kansas City, Missouri 64198-0001:

1. Alex Lin, Hong Kong, Hong Kong, Hiu Kwan Kwok, Cyber Port, Hong Kong, Jun Yang, Tianjin, China, and Yongyan Liu, Chaoyang, Beijing, China; to retain voting shares of My Anns Corporation, and thereby retain shares of Piqua State Bank, both of Piqua, Kansas.

Board of Governors of the Federal Reserve System, March 8, 2018.
Ann E. Misback,
Secretary of the Board.

[FR Doc. 2018-05009 Filed 3-12-18; 8:45 am]

BILLING CODE P